DEPARTMENT OF ENERGY

Federal Energy Regulatory Commission

[Project No. 12749-002]

Oregon Wave Energy Partners I, LLC; Notice of Preliminary Permit Application Accepted for Filing and Soliciting Comments, Motions To Intervene, and Competing Applications

April 16, 2010.

On March 2, 2010, Oregon Wave Energy Partners I, LLC filed an application for a subsequent preliminary permit, pursuant to section 4(f) of the Federal Power Act, proposing to study the feasibility of the Coos Bay OPT Wave Park Project. The requested project boundary comprises approximately 7.36 square miles of coastal waters, located between 2.5 and 3.0 miles off the coast near Coos Bay, Oregon.

The sole purpose of a preliminary permit, if issued, is to grant the permit holder priority to file a license application during the permit term. A preliminary permit does not authorize the permit holder to perform any land-disturbing activities or otherwise enter upon lands or waters owned by others without the owners' express permission.

The proposed project would consist of: (1) 200 PowerBuoys having a total installed capacity of 100 megawatts; (2) an approximately 2.5-mile-long, subsea transmission cable; (3) an approximately 200-yard-long transmission line connecting to an existing substation; and (4) appurtenant facilities. The project would have an estimated average annual generation of 276,000 megawatt-hours.

Applicant Contact: Mr. Charles F. Dunleavy, Oregon Wave Energy Partners I, LLC, 1590 Reed Road, Pennington, NJ 08534.

FERC Contact: Jim Hastreiter, (503) 552-2760, or via e-mail at james.hastreiter@ferc.gov.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-12749-002) in the docket number field to access the document. For assistance, contact FERC Online Support.

Kimberly D. Bose,
Secretary.

[FR Doc. 2010-9411 Filed 4-22-10; 8:45 am]

BILLING CODE 6717-01-P